Proclamation 10928 of May 1, 2025

Loyalty Day and Law Day, U.S.A., 2025

By the President of the United States of America

A Proclamation

The rule of law is the capstone of our constitutional order and the crown jewel of the American way of life. Beginning with the ratification of the Constitution, people and nations near and far have looked to the United States as a guiding light of liberty and justice. As our Nation commemorates Law Day, U.S.A., and Loyalty Day, we reaffirm our loyalty to the Constitution, and we renew our pledge to preserve and protect our glorious inheritance of fairness, equality, and freedom against all threats, foreign and domestic.

For centuries, the world has revered America for its devotion to the timeless principle of equal justice under the law. Tragically, in recent years, our constitutional heritage faced an existential threat from a political class that abandoned justice in favor of political retribution. Under the previous administration, Federal law enforcement agencies outrageously allowed violent criminals to roam our streets with impunity while targeting parents, churchgoers, political opponents, and ordinary citizens. This weaponization of our Government is a threat to our sovereignty and is antithetical to our Nation's most sacred principles, reminiscent of evil communist regimes.

This erosion of the American justice system ended the moment I took the oath of office. Under my leadership, our Federal law enforcement agencies are again being guided by the cornerstone American principles of fairness and impartiality—and the constitutional rights of every American citizen are being swiftly restored.

As we continue the work to restore justice in our courtrooms, order on our streets, and respect for our laws, we solemnly remember the more than 100 million victims of communism in the 20th century whose lives were viciously taken, and we stand in solidarity with the innumerable people across the world currently under captivity by communist leaders.

First proclaimed by President Dwight D. Eisenhower in 1955, Loyalty Day was inaugurated to directly counter commemorations of May Day—which was frequently celebrated by communist groups—and to serve as a beacon of hope to all those still blighted by the horrors and injustices of communism and tyranny. To this day, America is a living reminder that the precepts of our Nation's Founding will always transcend the evils wrought by communism and dictatorship. As President Ronald Reagan famously remarked in his 1989 Farewell Address, our Nation stands before the entire world as a “tall, proud city built on rocks stronger than oceans, wind-swept, God-blessed, and teeming with people of all kinds living in harmony and peace.”

For nearly 250 years, the United States had proudly carried forth a grand tradition of legal and political thought stretching back to the earliest days of Western civilization. Today, we acknowledge that our commitment to the constitutional rule of law is our pride, our glory, and an enduring source of American greatness. We recognize that love of country requires loyalty to country—and that a Nation without the free and impartial rule of law is not a Nation at all. Above all, we vow to usher in a new era of justice, integrity, and honor in our culture, in our courtrooms, and in our halls of Government.

NOW, THEREFORE, I, DONALD J. TRUMP, President of the United States of America, do hereby proclaim May 1, 2025, as Loyalty Day, and in accordance with Public Law 87-20, as amended, as Law Day, U.S.A. I call on all Americans to observe this day by reflecting upon the importance of the rule of law in our Nation and displaying the flag of the United States in support of this national observance, as well as by learning more about the proud history of our Nation. I urge all Government officials to display the flag of the United States on all Government buildings and grounds on this day.

IN WITNESS WHEREOF, I have hereunto set my hand this first day of May, in the year of our Lord two thousand twenty-five, and of the Independence of the United States of America the two hundred and forty-ninth.

[FR Doc. 2025-08131

Filed 5-6-25; 11:15 am]

Billing code 3395-F4-P